DEPARTMENT OF DEFENSE

Department of the Army

32 CFR Part 538

[Docket ID: USA-2018-HQ-0007]

RIN 0702-AA91

Military Payment Certificates

AGENCY: Department of the Army, DoD.

ACTION: Final rule.

SUMMARY: This final rule removes DoD's regulation concerning Military Payment Certificates (MPC) which are no longer used by the Federal Government nor DoD based on U.S. Treasury guidance and use of Smart Card technology. MPC's were discontinued in the late 1990's based on the U.S. Treasury determining that the remaining stock from the Vietnam War could no longer be used and it would take several years to replace them with new MPCs. The Army determined that going forward, the EagleCash Stored Value Card (SVC) will be used in lieu of MPC.

DATES: This rule is effective on June 11, 2018.

FOR FURTHER INFORMATION CONTACT: Mr. G. Eric Reid at (317) 212-2223 or george.e.reid2.civ@mail.mil.

SUPPLEMENTARY INFORMATION: It has been determined that publication of this CFR part removal for public comment is impracticable, unnecessary, and contrary to public interest. EagleCash is now used in support of operations in the Central Command, European Command, and Southern Command theaters by personnel from all Services and DoD civilians. Policy on use of the SVC is embedded in the DoD Financial Management Regulation (DoD 7000.14-R) Volume 5, Chapter 10 (http://comptroller.defense.gov/Portals/45/documents/fmr/Volume_05.pdf). Army doctrine using the SVC is in Field Manual 1-06, Financial Management Operations (http://armypubs.army.mil/ProductMaps/PubForm/FM.aspx). The Treasury is in the final stage of development of a new EagleCash program which will be used by all Services for both initial entry training and operations.

This rule is not significant under Executive Order (E.O.) 12866, “Regulatory Planning and Review,” therefore, E.O. 13771, “Reducing Regulation and Controlling Regulatory Costs” does not apply.

List of Subjects in 32 CFR Part 538

Currency, Military personnel, Wages.

PART 538—[REMOVED]

Accordingly, by the authority of 5 U.S.C. 301, 32 CFR part 538 is removed.

Brenda S. Bowen,
Army Federal Register Liaison Officer.

[FR Doc. 2018-12500 Filed 6-8-18; 8:45 am]

BILLING CODE 5001-03-P